DEPARTMENT OF COMMERCE

International Trade Administration

[C-533-858, C-489-817]

Certain Oil Country Tubular Goods From India and Turkey: Postponement of Preliminary Determination in the Countervailing Duty Investigations

AGENCY: Import Administration, International Trade Administration, Department of Commerce.

FOR FURTHER INFORMATION CONTACT: Sean Carey at (202) 482-3964 (India); Shane Subler at (202) 482-0189 (Turkey), AD/CVD Operations, Import Administration, International Trade Administration, U.S. Department of Commerce, 14th Street and Constitution Avenue NW., Washington, DC 20230.

SUPPLEMENTARY INFORMATION:

Background

On July 22, 2013, the Department of Commerce (the Department) initiated the countervailing duty investigations of certain oil country tubular goods from India and Turkey.¹ Currently, the preliminary determinations are due no later than September 25, 2013.

¹ See Certain Oil Country Tubular Goods from India and Turkey: Initiation of Countervailing Duty Investigations, 78 FR 45502 (July 29, 2013).

Postponement of Due Date for the Preliminary Determination

Section 703(b)(1) of the Tariff Act of 1930, as amended (the Act), requires the Department to issue the preliminary determination in a countervailing duty investigation within 65 days after the date on which the Department initiated the investigation. However, if the Department concludes that the parties concerned in the investigation are cooperating and determines that the investigation is extraordinarily complicated, section 703(c)(1)(B) of the Act allows the Department to postpone making the preliminary determination until no later than 130 days after the date on which the administering authority initiated the investigation.

The Department has determined that the parties involved in these proceedings are cooperating, and that the investigations are extraordinarily complicated.² Specifically, the Department is investigating numerous alleged subsidy programs in both India and Turkey; these programs include loans, grants, income tax incentives, and the provision of goods and services for less than adequate remuneration. Due to the number and complexity of the alleged countervailable subsidy practices being investigated, we determine that these investigations are extraordinarily complicated. Therefore, in accordance with section 703(c)(1)(B) of the Act, we are fully extending the due date for the preliminary determinations to not later than 130 days after the day on which the investigations were initiated. Thus, the deadline for completion of the preliminary determinations is now Friday, November 29, 2013.

² See section 703(c)(1)(B) of the Act.

This notice is issued and published pursuant to section 703(c)(2) of the Act and 19 CFR 351.205(f)(1).

Dated: September 5, 2013.
Paul Piquado,
Assistant Secretary for Import Administration.

[FR Doc. 2013-22471 Filed 9-13-13; 8:45 am]

BILLING CODE 3510-DS-P